DEPARTMENT OF COMMERCE

National Institute of Standards and Technology

[Docket Number: 100311136-0140-01]

Center for Nanoscale Science and Technology Postdoctoral Researcher and Visiting Fellow Measurement Science and Engineering Program; Availability of Funds

AGENCY: National Institute of Standards and Technology (NIST), Commerce.

ACTION: Notice.

SUMMARY: The National Institute of Standards and Technology (NIST) Center for Nanoscale Science and Technology (CNST) is establishing a financial assistance program for awardees to develop and implement with the CNST a Postdoctoral Researcher and Visiting Fellow Measurement Science and Engineering Program. This program is intended to promote research, training, and practical experience in nanoscale science and technology on-site at the CNST, and to advance the CNST's mission to support the development of nanotechnology through research on measurement and fabrication methods, standards and technology, and by operating a state-of-the-art nanofabrication facility, the NanoFab.

DATES: All applications must be received no later than 5 p.m. Eastern Daylight Savings Time on Friday, April 30, 2010. Please see “Application Submission Information” for more information.

ADDRESSES: Paper copies of full proposals must be submitted to the address below. Paper submissions require an original and two copies: Donna Lauren; Center for Nanoscale Science and Technology; National Institute of Standards and Technology; 100 Bureau Drive, Stop 6200; Gaithersburg, Maryland 20899-6200. Electronic submissions of full proposals must be submitted to: http://www.grants.gov.

FOR FURTHER INFORMATION CONTACT: Donna Lauren, Center for Nanoscale Science and Technology, National Institute of Standards and Technology, 100 Bureau Drive, Stop 6200, Gaithersburg, Maryland 20899-6200. Tel (301) 975-3729, E-Mail: donna.lauren@nist.gov.

SUPPLEMENTARY INFORMATION:

Electronic access: Applicants are strongly encouraged to read the Federal Funding Opportunity (FFO) available at http://www.grants.gov/ for complete information about this program, all program requirements, and instructions for applying by paper or electronically.

Authority: 15 U.S.C. 272(b) and (c), 15 U.S.C. 278g-1(a), (b), 15 U.S.C. 7501(b).

(Catalog of Federal Domestic Assistance (CFDA) Number: 11.609)

Program Description

Program Objectives

The CNST's mission is to support the development of nanotechnology through research on measurement and fabrication methods, standards and technology, and by operating a state-of-the-art nanofabrication facility, the NanoFab. The primary program objectives of the Center for Nanoscale Science and Technology Postdoctoral Researcher and Visiting Fellow Measurement Science and Engineering Program are as follows:

1. To advance, through cooperative efforts with one or more universities, research consistent with the mission of NIST, and CNST specifically. Seehttp://www.nist.gov/cnst/ and 15 U.S.C. 271 et seq.

2. To provide training for the next generation of nanotechnologists by providing recent Ph.D. recipients postdoctoral positions (“Postdoctoral Researchers”) to perform research at the CNST under the mentorship of a CNST Project Leader. The Postdoctoral Researchers must show promise as contributors to the mission of the CNST, and be selected on the basis of ability and of the relevance of the proposed work to the mission of the CNST.

3. To provide advanced training and access to the CNST's expertise and instrumentation by providing practicing scientists and engineers in the public and private sectors visiting senior research positions (“Visiting Fellows”) to perform research at the CNST in collaboration with a CNST Project Leader. The Visiting Fellows must be selected on the basis of ability and on the relevance of the proposed work to the mission of the CNST.

4. To provide Postdoctoral Researchers and Visiting Fellows under this program with professional development opportunities, including travel to relevant workshops and conferences.

5. To encourage U.S. industrial, university, and government scientists to participate in research at the CNST, either in collaboration with the CNST research program or by using the NanoFab, by providing support for travel and local expenses for participants traveling beyond a normal commuting distance to the CNST in Gaithersburg, Maryland.

The CNST intends this financial assistance program to address all of these objectives through one or more Cooperative Agreements. An eligible applicant is not prohibited from including any collaborating subrecipients in its application.

Additional information about the CNST can be found at: http://www.nist.gov/cnst. Additional information about the CNST Postdoctoral Researcher and Visiting Fellow Measurement Science and Engineering Program may be found in the Federal Funding Opportunity (FFO) for this program.

Funding Availability: NIST anticipates making 1-2 awards for a period of performance of up to 5 years at $1,500,000 to $3,000,000 per year per award.

Total Amount to be Awarded: Up to $15 million in Cooperative Agreements.

The funding instrument used in this program will be a Cooperative Agreement.

Proposals will be considered for Cooperative Agreements with durations of up to five years, funded in one year increments, subject to the availability of funds, satisfactory progress, and the continuing relevance to the objectives of the NIST Center for Nanoscale Science and Technology. The anticipated level of funding is up to $3,000,000 per year and one or more awards may be approved. Between one and three awards are likely. Projects are expected to start by September 20, 2010.

NIST will determine whether to fund one award for the full amount; to divide available funds into multiple awards of any size, and negotiate scopes of work and budgets as appropriate; or not to select any proposal for funding, upon completing the selection process described below.

Cost Share Requirements: None.

Eligibility: This program is open to U.S. institutions of higher education.

Application Requirements: In accordance with the requirements set forth in the Content and Form of Application Submission section of the FFO, all applicants must either submit a paper copy (original and 2 copies) to the addresses under the ADDRESSES heading or an electronic application at http://www.grants.gov.

Evaluation Criteria

The applications will be evaluated and scored on the basis of the following evaluation criteria:

1. Technical merit of the proposal: Assesses whether the proposal accurately addresses the program goals and objectives. (40 pts)

2. Overall qualifications of the applicant: Assesses whether the applicant possesses the necessary experience, training, facilities, and administrative resources to accomplish the project. (40 pts)

3. Quality of the plan for providing support for travel and local expenses for students and scientists to participate in research at the CNST. (10 pts)

4. Project costs: The proposal budget is evaluated to determine if it is realistic and commensurate with the project needs and time-frame. (10 pts)

Selection Factors: The Selecting Official shall recommend award based upon the rank order and recommendations of the reviewers and upon one or more of the following factors:

a. Availability of Federal funds;

b. Balance/distribution of funds to ensure research opportunities for all types of Postdoctoral Researchers and Visiting Fellows and CNST scientific research areas described in the Program Description section of this Notice; and

c. Applicant's prior award performance.

Therefore, the highest scoring proposals may not necessarily be selected for an award. If an award is made to an applicant that deviates from the scores of the reviewers, the Selecting Official will justify the selection in writing based on selection factors described above.

Review and Selection Process: Initial Screening of all Applications: All timely submitted applications received in response to this announcement will be reviewed to determine whether they are complete and responsive to the scope of the stated objectives of the Program. Incomplete or non-responsive applications will not be reviewed for technical merit. NIST will retain one copy of each incomplete or non-responsive application for three years for record keeping purposes. The remaining copies will be destroyed.

Each complete and responsive application will be reviewed by at least three independent, objective NIST employees, who are knowledgeable in the subject matter of this announcement and the program objectives, and who are able to conduct a review based on the Evaluation Criteria for the Program as described in this notice. The reviewers will reach a consensus score resulting in a rank order of applications and make recommendations for funding to the Selecting Official. In making final selections, the Selecting Official (Deputy Director, CNST) will select funding recipients based upon the rank order of the proposals and the selection factors. The final award of Cooperative Agreements will be made by the NIST Grants Officer in Gaithersburg, Maryland, based on compliance with application requirements as published in this notice, compliance with applicable legal and regulatory requirements, and whether the recommended applicants are determined to be responsible. Unsatisfactory performance on any previous Federal award may result in an application not being considered for funding. Applicants may be asked to modify objectives, work plans, or budgets, and provide supplemental information required by the agency prior to award. The decision of the Grants Officer is final.

Application Submission Information: All applicants should be aware that adequate time must be factored into applicant schedules for delivery of the application for both electronic and paper submission. Applicants who submit electronic applications are advised that volume on Grants.gov may be extremely heavy, and if Grants.gov is unable to accept applications electronically in a timely fashion, applicants are encouraged to exercise their option to submit applications in paper format.

Applications must be received on time, as the review process is expected to begin shortly after the deadline.

The Department of Commerce Pre-Award Notification Requirements for Grants and Cooperative Agreements: The Department of Commerce Pre-Award Notification Requirements for Grants and Cooperative Agreements, which are contained in the Federal Register Notice of February 11, 2008 (73 FR 7696), are applicable to this notice on the form SF-424 items 8.b. and 8.c., the applicant's 9-digit Employer/Taxpayer Identification Number (EIN/TIN) and 9-digit Dun and Bradstreet Data Universal Numbering System (DUNS) number must be consistent with the information on the Central Contractor Registration (CCR) (http://www.ccr.gov) and Automated Standard Application for Payment System (ASAP). For complex organizations with multiple EIN/TIN and DUNS numbers, the EIN/TIN and DUNS numbers MUST be the numbers for the applying organization. Organizations that provide incorrect/inconsistent EIN/TIN and DUNS numbers may experience significant delays in receiving funds if their proposal is selected for funding. Please confirm that the EIN/TIN and DUNS number are consistent with the information on the CCR and ASAP.

Collaborations with NIST Employees: Collaboration with NIST is presumed in the Center for Nanoscale Science and Technology Postdoctoral Researcher and Visiting Fellow Measurement Science and Engineering Program. If any applicant proposes any activities involving specific NIST employees, the statement of work should include a statement of this intention, a description of the collaboration, and prominently identify the NIST employee(s) involved. Any collaboration by a NIST employee must be approved by appropriate NIST management and is at the sole discretion of NIST. Prior to beginning the merit review process, NIST will verify the approval of the proposed collaboration. Any unapproved collaboration will be stricken from the proposal prior to the merit review.

Use of NIST Intellectual Property: If the applicant anticipates using any NIST-owned intellectual property to carry out the work proposed, the applicant should identify such intellectual property. This information will be used to ensure that no NIST employee involved in the development of the intellectual property will participate in the review process for that competition. In addition, if the applicant intends to use NIST-owned intellectual property, the applicant must comply with all statutes and regulations governing the licensing of Federal government patents and inventions, described at 35 U.S.C. 200-212, 37 CFR part 401, 15 CFR 4.36, and in Section B.21 of the Department of Commerce Pre-Award Notification Requirements, 73 FR 7696 (Feb. 11, 2008). Questions about these requirements may be directed to the Chief Counsel for NIST, 301-975-2803.

Any use of NIST-owned intellectual property by a proposer is at the sole discretion of NIST and will be negotiated on a case-by-case basis if a project is deemed meritorious. The applicant should indicate within the statement of work whether it already has a license to use such intellectual property or whether it intends to seek one.

If any inventions made in whole or in part by a NIST employee arise in the course of an award made pursuant to this notice, the United States government may retain its ownership rights in any such invention. Licensing or other disposition of NIST's rights in such inventions will be determined solely by NIST, and include the possibility of NIST putting the intellectual property into the public domain.

Collaborations making use of Federal Facilities: All applications should include a description of any work proposed to be performed using Federal Facilities. If an applicant proposes use of NIST facilities, the statement of work should include a statement of this intention and a description of the facilities. Any use of NIST facilities must be approved by appropriate NIST management and is at the sole discretion of NIST. Prior to beginning the merit review process, NIST will verify the availability of the facilities and approval of the proposed usage. Any unapproved facility use will be stricken from the proposal prior to the merit review. Examples of some facilities that may be available for collaborations are listed on the NIST Technology Services Web site, http://ts.nist.gov/.

Paperwork Reduction Act: The standard forms in the application kit involve a collection of information subject to the Paperwork Reduction Act. The use of Standard Forms 424, 424A, 424B, 424 (R&R), SF-LLL, and CD-345 have been approved by OMB under the respective Control Numbers 0348-0043, 0348-0044, 0348-0040, 4040-0001, 0348-0046, and 0605-0001. Notwithstanding any other provision of the law, no person is required to respond to, nor shall any person be subject to a penalty for failure to comply with, a collection of information subject to the requirements of the Paperwork Reduction Act, unless that collection of information displays a valid OMB Control Number.

Research Projects Involving Human Subjects, Human Tissue, Data or Recordings Involving Human Subjects: Any proposal that includes research involving human subjects, human tissue, data or recordings involving human subjects must meet the requirements of the Common Rule for the Protection of Human Subjects (Common Rule), codified for the Department of Commerce at 15 CFR Part 27. In addition, any proposal that includes research on these topics must be in compliance with any statutory requirements imposed upon the Department of Health and Human Services (DHHS) and other federal agencies regarding these topics, all regulatory policies and guidance adopted by DHHS, the Food and Drug Administration, and other Federal agencies on these topics, and all Presidential statements of policy on these topics. NIST will accept the submission of human subjects protocols that have been approved by Institutional Review Boards (IRBs) possessing a current registration filed with DHHS and to be performed by institutions possessing a current, valid Federal-wide Assurance (FWA) from DHHS. NIST will not issue a single project assurance (SPA) for any IRB reviewing any human subjects protocol proposed to NIST.

President Obama has issued Executive Order No. 13,505 (74 FR 10667, March 9, 2009), revoking previous Executive Orders and Presidential statements regarding the use of human embryonic stem cells in research. On July 30, 2009, President Obama issued a memorandum directing that agencies that support and conduct stem cell research adopt the “National Institutes of Health Guidelines for Human Stem Cell Research” (NIH Guidelines), which became effective on July 7, 2009, “to the fullest extent practicable in light of legal authorities and obligations.” On September 21, 2009, the Department of Commerce submitted to the Office of Management and Budget a statement of compliance with the NIH Guidelines. In accordance with the President's memorandum, the NIH Guidelines, and the Department of Commerce statement of compliance, NIST will support and conduct research using only human embryonic stem cell lines that have been approved by NIH in accordance with the NIH Guidelines and will review such research in accordance with the Common Rule, as appropriate. NIST will not support or conduct any type of research that the NIH Guidelines prohibit NIH from funding. NIST will follow any additional polices or guidance issued by the current Administration on this topic.

Research Projects Involving Vertebrate Animals: Any proposal that includes research involving vertebrate animals must be in compliance with the National Research Council's “Guide for the Care and Use of Laboratory Animals” which can be obtained from National Academy Press, 2101 Constitution Avenue, NW., Washington, DC 20055. In addition, such proposals must meet the requirements of the Animal Welfare Act (7 U.S.C. 2131 et seq.), 9 CFR Parts 1, 2, and 3, and if appropriate, 21 CFR Part 58. These regulations do not apply to proposed research using pre-existing images of animals or to research plans that do not include live animals that are being cared for, euthanized, or used by the project participants to accomplish research goals, teaching, or testing. These regulations also do not apply to obtaining animal materials from commercial processors of animal products or to animal cell lines or tissues from tissue banks.

Limitation of Liability: Funding for the programs listed in this notice is contingent upon the availability of Fiscal Year 2010 appropriations. Publication of this announcement does not oblige NIST or the Department of Commerce to award any specific project or to obligate any available funds.

Executive Order 12866: This funding notice was determined to be not significant for purposes of Executive Order 12866.

Executive Order 13132 (Federalism): It has been determined that this notice does not contain policies with federalism implications as that term is defined in Executive Order 13132.

Executive Order 12372 (Intergovernmental Review of Federal Programs)

Applications under this program are not subject to Executive Order 12372, “Intergovernmental Review of Federal Programs.”

Administrative Procedure Act/Regulatory Flexibility Act: Notice and comment are not required under the Administrative Procedure Act (5 U.S.C. 553) or any other law, for rules relating to public property, loans, grants, benefits or contracts (5 U.S.C. 553 (a)). Because notice and comment are not required under 5 U.S.C. 553, or any other law, for rules relating to public property, loans, grants, benefits or contracts (5 U.S.C. 553(a)), a Regulatory Flexibility Analysis is not required and has not been prepared for this notice, 5 U.S.C. 601 et seq.

Reporting: Successful finalists will be required to submit, on a semi-annual basis, for the periods ending March 31 and September 30 of each year, a technical progress report and a SF-269, Financial Status Report. From time to time, and in accordance with the Uniform Administrative Requirements and other terms and conditions governing the award, the recipient may need to submit property and patent reports.

Anticipated Announcement and Award Date

NIST plans to make awards by September 20, 2010.

Dated: March 18, 2010.
Marc G. Stanley,
Acting Deputy Director.

[FR Doc. 2010-6533 Filed 3-23-10; 8:45 am]

BILLING CODE 3510-13-P